DEPARTMENT OF THE INTERIOR

Fish and Wildlife Service

[FWS-HQ-ES-2015-N053; FF09E15000-FXHC112509CBRA1-156]

John H. Chafee Coastal Barrier Resources System; Availability of Final Revised Maps for Maine, Maryland, New Jersey, New York, North Carolina, and Virginia

AGENCY: Fish and Wildlife Service, Interior.

ACTION: Notice of availability.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. The U.S. Fish and Wildlife Service (Service) has conducted this review and has prepared final revised maps for all of the CBRS units in Maine, all units in Maryland, all units in New Jersey, all units in Virginia, 1 unit in New York, and 13 units in North Carolina. The maps were produced by the Service in partnership with the Federal Emergency Management Agency (FEMA) and in consultation with the appropriate Federal, State, and local officials. This notice announces the findings of the Service's review and the availability of final revised maps for 182 CBRS units. The final revised maps for these CBRS units, dated August 1, 2014, are the official controlling CBRS maps for these areas.

DATES: Changes to the CBRS depicted on the final revised maps, dated August 1, 2014, become effective on May 4, 2015.

ADDRESSES: For information about how to get copies of the maps or where to go to view them, see SUPPLEMENTARY INFORMATION.

FOR FURTHER INFORMATION CONTACT: Katie Niemi, Coastal Barriers Coordinator, Division of Budget and Technical Support, U.S. Fish and Wildlife Service Headquarters, 5275 Leesburg Pike, MS: ES, Falls Church, VA 22041; telephone (703) 358-2071; or electronic mail (email) CBRA@fws.gov.

SUPPLEMENTARY INFORMATION:

Background

Background information on the CBRA (CBRA; 16 U.S.C. 3501 et seq.) and the CBRS, as well as information on the digital conversion effort and the methodology used to produce the revised maps, can be found in a notice the Service published in the Federal Register on August 29, 2013 (78 FR 53467).

For information on how to access the final revised maps, see the Availability of Final Maps and Related Information section below.

Announced Map Modifications

This notice announces modifications to the maps for all of the CBRS units in Maine, all units in Maryland, all units in New Jersey, all units in Virginia, 1 unit in New York, and 13 units in North Carolina. Most of the modifications were made to reflect changes to the CBRS units as a result of natural forces (e.g., erosion and accretion). The CBRA requires the Secretary to review the CBRS maps at least once every 5 years and make, in consultation with the appropriate Federal, State, and local officials, any minor and technical modifications to the boundaries of the CBRS as are necessary to reflect changes that have occurred in the size or location of any CBRS unit as a result of natural forces (16 U.S.C. 3503(c)).

The Service's review resulted in a set of 118 final revised maps, dated August 1, 2014, depicting a total of 182 CBRS units. The set of maps includes 19 maps for 34 CBRS units located in Maine; 23 maps for 49 CBRS units located in Maryland; 16 maps for 21 CBRS units located in New Jersey; 32 maps for 64 CBRS units located in Virginia; 2 maps for 1 CBRS unit located in New York; and 26 maps for 13 CBRS units located in North Carolina. Comprehensively revised maps for North Carolina Units L07, L08, and L09, were made effective on December 18, 2014, via Pub. L. 113-253; therefore, the revised maps prepared for these units through the digital conversion effort will not be adopted administratively by the Service and are not described in this notice. The Service found that a total of 138 of the 182 CBRS units reviewed had experienced changes in their size or location as a result of natural forces since they were last mapped. The Service's review of these areas also found three CBRS units that required modifications to correct administrative errors that were made in the past on maps for Washington County, Maine; Cumberland County, Maine; and Northampton County, Virginia. The revised maps were produced by the Service in partnership with FEMA.

The Service is specifically notifying the following stakeholders concerning the availability of the final revised maps: the Chair and Ranking Member of the House of Representatives Committee on Natural Resources; the Chair and Ranking Member of the Senate Committee on Environment and Public Works; the members of the Senate and House of Representatives for the affected areas; the Governors of the affected areas; and other appropriate Federal, State, and local officials.

Consultation With Federal, State, and Local Officials

Consultation and Comment Period

The CBRA requires consultation with the appropriate Federal, State, and local officials (stakeholders) on the proposed CBRS boundary modifications to reflect changes that have occurred in the size or location of any CBRS unit as a result of natural forces (16 U.S.C 3503(c)). The Service fulfilled this requirement by holding a 30-day comment period on the draft maps (dated September 30, 2013) for Federal, State, and local stakeholders, from June 10, 2014, through July 10, 2014. This comment period was announced in a notice published in the Federal Register (79 FR 33207) on June 10, 2014.

Formal notification of the comment period was provided via letters to approximately 295 stakeholders, including the Chair and Ranking Member of the House of Representatives Committee on Natural Resources; the Chair and Ranking Member of the Senate Committee on Environment and Public Works; the members of the House of Representatives and Senate for the affected areas; the Governors of the affected areas; the local elected officials of the affected areas; and other appropriate Federal, State, and local officials.

Comments and Service Responses

The June 2014 notice specifically solicited comments from Federal, State, and local officials. Below is a summary of the written comments and/or acknowledgements received from stakeholders (Federal, State, and local officials) and the Service's response to those comments. Comments received from non-stakeholders were not considered as part of this process and are therefore not summarized or responded to below. Interested parties may contact the Service individual identified in the FOR FURTHER INFORMATION CONTACT section to make arrangements to view copies of the comments received during the stakeholder review period.

Maryland

1. Calvert County Office of the County Administrator: The Calvert County Administrator indicated that the County's understanding is that the geomorphic modification that was proposed to Unit MD-37P, which expanded the unit to include the entire shoreline of Flag Ponds Nature Park, would not prohibit projects that are consistent with the purpose of the protected area. The County Administrator stated that if their understanding is correct, they have no objection to the proposed expansion of the unit.

Service Response to the Calvert County Office of the County Administrator: The only Federal spending prohibition within Otherwise Protected Areas (OPAs) of the CBRS (such as Unit MD-37P) is the prohibition on Federal flood insurance. Therefore, the expansion of Unit MD-37P will not affect federally funded projects. There is also an exception to the prohibition on Federal flood insurance for structures within OPAs that are used in a manner consistent with the purpose for which the area is protected (e.g., park visitor center).

2. State of Maryland Department of Natural Resources: The State of Maryland Department of Natural Resources concurred with the proposed modifications to the CBRS maps in Maryland.

North Carolina

1. Carteret County Shore Protection Office: The Carteret County Shore Protection Office (CCSPO) requested that the eastern boundary of Unit NC-06P be made consistent with the federally maintained and marked/buoyed navigation channel that is within the larger water feature known as Bogue Inlet. Specifically, the CCSPO recommended that the eastern boundary of Unit NC-06P be repositioned to the west to follow the Huggins/Dudley Island shoreline and merge with the part of the channel on the Unit NC-06P map identified as “Bogue Inlet.” The CCSPO submitted bathymetry maps generated by the U.S. Army Corps of Engineers that identify the position of the deep water and navigational aids marking the main channel.

Service Response to the Carteret County Shore Protection Office: The Service found no indication that the eastern boundary of Unit NC-06P was intended to follow the deepest portion of the navigation channel; rather, it generally follows the boundary between Onslow and Carteret Counties on the original CBRS base map, which falls roughly within Bogue Inlet (between Bear Island and Emerald Isle). The Service believes that the original intent of the CBRS boundary was to include Bear Island and its associated aquatic habitat within Unit NC-06P. Therefore, it would not be appropriate to place the boundary in the deepest portion of the navigation channel, which would remove some of the associated aquatic habitat of Bear Island (located between Dudley Island and Emerald Isle) from the CBRS. The boundaries of Unit NC-06P on the final revised map dated August 1, 2014, remain the same as those shown on the draft map dated September 30, 2013.

2. Dare County Planning Department: The Dare County Planning Department (DCPD) requested that the Service review two previously issued CBRS determination letters to ensure that two specific structures adjacent to Unit L03 were not adversely affected (i.e., made ineligible for Federal flood insurance) by the revised maps. The DCPD also asked that any properties currently not located in CBRA zones, which as a result of the new maps will be located in the CBRA zone, be identified and provided to the County. Additionally, the DCPD stated that portions of the boundary in Unit L03 as it applies to the Kinnakeet Shores subdivision should have been modified to follow a distinct demarcation of wetlands in a manner similar to modifications that were made to CBRS boundaries in other locations. The DCPD is pleased that the digital conversion of the maps will make them more user friendly and hopes that the revised FEMA Flood Insurance Rate Maps (FIRMs) to be released in 2015 will include the revised CBRS boundaries.

Service Response to the Dare County Planning Department: The Service reviewed the two CBRS property determination letters that were submitted by the DCPD. No modifications were made to Unit L03 and there is no change in the CBRS determinations for these two properties.

Additionally, the Service reviewed all of the modifications that were made in Dare County and can confirm that none of them add additional structures or land to the CBRS (with the exception of some very minor additions of wetlands).

The Service is authorized to make minor and technical modifications to the boundaries of the CBRS as are necessary to reflect changes that have occurred in the size or location of any CBRS unit as a result of natural forces. Generally, the Service will only make such modifications to a boundary where the intent of the boundary segment was clearly to follow a geomorphic feature on the ground, and the feature had undergone natural change. The Service's review of Unit L03 found that the boundary segment that affects the Kinnakeet Shores subdivision was not originally intended to follow the edge of the wetlands, but rather a dirt road depicted on the underlying CBRS base map. Therefore, the Service did not modify the boundary to follow the wetlands as suggested by the DCPD. The boundary of Unit L03 affecting the Kinnakeet Shores Subdivision on the final revised map dated August 1, 2014, remains the same as the boundary depicted on the formerly controlling CBRS map of the area dated October 18, 1999.

The Service is working with FEMA to include the updated CBRS boundaries adopted through this notice on the FIRMs that FEMA is revising in 2015. The CBRS boundaries are shown on FEMA's FIRMs for informational purposes; the official CBRS maps maintained by the Service will remain the official source of boundary location information for the CBRS.

3. Town of North Topsail Beach: The Town of North Topsail Beach (TNTB) requested that the portions of the TNTB that had a full complement of infrastructure at the time Unit L06 was established be removed from the CBRS and that the associated aquatic habitat north of Topsail Island and around New River Inlet that is zoned as conservation area in local land use plans be reclassified from a System Unit to an OPA. The TNTB also requested that the Service make no modifications to the coincident boundary between Units L05 and L06 in New River Inlet, because the Town believes that it will make an existing navigation project even more complex and will significantly impact the disposal of material from the channel maintenance on North Topsail Beach's shoreline.

Service Response to the TNTB: Changes to the CBRS boundaries through the digital conversion effort are limited to the administrative modifications the Secretary is authorized to make under the CBRA (16 U.S.C. 3503(c)-(e)). Changes that are outside the scope of this authority must be made through the comprehensive map modernization process, which entails Congressional enactment of legislation to make the revised maps effective. Additional information about CBRS digital conversion and comprehensive map modernization can be found in the Digital Conversion of the CBRS Maps section of the notice published by the Service in the Federal Register on August 29, 2013 (78 FR 53467). Unit L06 has already undergone the comprehensive map modernization process and the Service has prepared final recommended maps for Congressional consideration dated November 20, 2013, which propose additions to and removals from the CBRS. The results of the Service's comprehensive review of Unit L06 (including an assessment of the level of infrastructure that was on the ground at the time of the Unit's designation in 1982) are contained in Service testimony presented before the House Natural Resources Subcommittee on Fisheries, Wildlife, Oceans, and Insular Affairs on April 8, 2014. The Service's review found that though there were some structures on the ground and a main trunk line of infrastructure that ran along the length of the unit in 1982, the area still met the CBRA's criteria for an undeveloped coastal barrier when it was designated within the CBRS in 1982. The Service does not consider areas such as the associated aquatic habitat north of Topsail Island and around New River Inlet that are identified as “conserved” solely through land use plans and/or zoning designations to qualify for OPA status. Therefore, the Service does not recommend reclassifying such areas from System Units to OPAs. Additionally, such a reclassification would be outside of the scope of the digital conversion effort.

Regarding the realignment of the coincident boundary between Units L05 and L06 to the current location of New River Inlet, this modification complies with the directive in the CBRA (16 U.S.C. 3503(c)) that the Service shall make such minor and technical modifications to the boundaries of the CBRS as are necessary to reflect changes that have occurred as a result of natural forces. Additionally, whether the channel is within Unit L05 or Unit L06 will not have an effect on whether or not the project is allowable under an exception to the CBRA, as the units are adjacent and of the same CBRS unit type (System Unit). Therefore, the boundaries of Units L05 and L06 on the final revised maps dated August 1, 2014, remain the same as those shown on the draft maps dated September 30, 2013.

4. Town of Topsail Beach: The Service received comments from the Town of Topsail Beach regarding Unit L07. The Service did not consider these comments, because the revised map for Unit L07 that was prepared through the digital conversion effort was superseded by a comprehensively revised map that was made effective on December 18, 2014, via Pub. L. 113-253.

Virginia

1. Commonwealth of Virginia Department of Conservation and Recreation: The Commonwealth of Virginia Department of Conservation and Recreation supported the revision of the maps, as well as the Service's efforts to make them digitally accessible.

No Changes to Draft Maps

The Service made no changes to the CBRS boundaries depicted on the draft maps dated September 30, 2013, as a result of the summer 2014 comment period (June 10, 2014; 79 FR 33207). The CBRS boundaries depicted on the final revised maps, dated August 1, 2014, are identical to the CBRS boundaries depicted on the draft revised maps dated September 30, 2013.

Summary of Modifications to the CBRS Boundaries

Below is a summary of the changes depicted on the final revised maps dated August 1, 2014.

Maine

The Service's review found 22 of the 34 CBRS units in Maine to have changed due to natural forces. The final revised maps for Units A03C and A07 correct administrative errors that were made by the Service in 1990.

A01: LUBEC BARRIERS UNIT. The landward boundary of the unit has been modified to reflect natural changes that have occurred in the configuration of the wetland/fastland interface and shoreline.

A03: JASPER UNIT. The landward boundary of the unit has been modified to reflect natural changes that have occurred in the configuration of the wetland/fastland interface.

A03B: STARBOARD UNIT. The landward boundary of the unit has been modified to reflect natural changes that have occurred in the configuration of the wetland/fastland interface.

A03C: POPPLESTONE BEACH/ROQUE ISLAND UNIT. The landward boundary of the Popplestone Beach segment of the unit has been modified to correct an administrative error in the transcription of the boundary from the draft map that was reviewed and approved by Congress to the official map dated October 24, 1990, for this unit. The area in question was first added to the CBRS at the request of the State of Maine on April 18, 1983, through the minor and technical boundary modification process authorized by section 4(c) of the CBRA (Pub. L. 97-348). This same area, which had been in the CBRS since 1983, was misidentified as an “addition” to the CBRS in the Service's 1988 Report to Congress: Volume 2, Maine. This correction is supported by an assessment of the historical maps and aerial imagery for this area, as well as by the legislative history of the Coastal Barrier Improvement Act (CBIA; Pub. L. 101-591). Additionally, the landward boundaries of the Great Bar, Popplestone Beach, and Rogue Island Harbor segments of the unit have been modified to reflect natural changes that have occurred in the configuration of the wetland/fastland interface.

A05B: HEAD BEACH UNIT. The southeastern boundary of the unit has been modified to include the entire frontal dune within the unit.

A06: CAPE ELIZABETH UNIT. The landward boundary of the eastern segment of the unit has been modified to account for natural change in the shoreline of the pond within the unit.

A07: SCARBOROUGH BEACH UNIT. The southern landward portion of the boundary has been modified to correct an administrative error in the transcription of the boundary from the draft map that was reviewed and approved by Congress to the official map dated October 24, 1990, for this unit. This correction is supported by an assessment of the historical maps and aerial imagery for this area, as well as by the legislative history of the CBIA (Pub. L 101-591).

A08: CRESCENT SURF UNIT. The landward boundary of the unit has been modified to reflect natural changes that have occurred in the configuration of the wetland/fastland interface.

A09: SEAPOINT UNIT. The landward boundary of the unit has been modified to reflect natural changes that have occurred in the configuration of the wetland/fastland interface.

ME-04: SEAL COVE UNIT. The landward boundary of the unit has been modified to reflect natural changes that have occurred in the configuration of the wetland/fastland interface and shoreline.

ME-07P: ROQUE BLUFFS UNIT. The landward boundary of the unit has been modified to reflect natural changes that have occurred in the configuration of the wetland/fastland interface.

ME-09P: PETIT MANAN/BOIS BUBERT UNIT. The boundary has been modified in the northern segment of the unit to reflect natural changes that have occurred in the configuration of the wetland/fastland interface.

ME-10P: OVER POINT UNIT. The boundary of the unit has been modified to reflect natural changes that have occurred in the configuration of the wetland/fastland interface.

ME-11: POND ISLAND UNIT. A segment of boundary has been added to the southeastern portion of the unit to clarify the extent of the unit, which includes portions of Pond Island but not Hog Island. As a result, a segment of boundary has been removed from the southwestern side of the unit to keep one side of the unit open to East Penobscot Bay.

ME-12: THRUMCAP UNIT. The landward boundary of the unit has been modified to reflect natural changes that have occurred in the configuration of the wetland/fastland interface.

ME-14: NASH POINT UNIT. The landward boundary of the unit has been modified to reflect natural changes that have occurred in the configuration of the wetland/fastland interface.

ME-15P: LITTLE RIVER UNIT. The landward boundary of the unit has been modified to reflect natural changes that have occurred in the configuration of the wetland/fastland interface.

ME-16: HUNNEWELL BEACH UNIT. The landward boundary of the unit has been modified to reflect natural changes that have occurred in the configuration of the wetland/fastland interface.

ME-17: SMALL POINT BEACH UNIT. The landward boundary of the unit has been modified to reflect natural changes that have occurred in the configuration of the wetland/fastland interface. The boundary has also been modified to account for natural changes in the location of the barrier in the area of Small Point Beach.

ME-18: STOVER POINT UNIT. The landward boundary of the unit has been modified to reflect natural changes that have occurred in the configuration of the wetland/fastland interface.

ME-20P: OGUNQUIT BEACH UNIT. The landward boundary of the unit has been modified to reflect natural changes that have occurred in the configuration of the wetland/fastland interface.

ME-23: PHILLIPS COVE UNIT. The landward boundary of the unit has been modified to reflect natural changes that have occurred in the configuration of the wetland/fastland interface.

Maryland

The Service's review found 29 of the 49 CBRS units in Maryland to have changed due to natural forces.

MD-01P: ASSATEAGUE ISLAND UNIT. The landward boundary of the unit has been modified to account for the migration of sand outside of the unit in Sinepuxent Bay.

MD-03: SOUND SHORE UNIT. The landward boundary of the unit has been modified to reflect natural changes that have occurred in the configuration of the marsh and wetland/fastland interface.

MD-06: JOES COVE UNIT. The landward boundary of the unit has been modified to reflect natural changes that have occurred in the configuration of the marsh and wetland/fastland interface. The southern boundary has been modified to account for channel migration along Joes Gut.

MD-09P: ST. PIERRE POINT UNIT. The landward boundary of the unit has been modified to account for the channel migration along an unnamed channel. The southern boundary of the unit has been modified to include the entire barrier feature, which has expanded to the south. The northern boundary of the unit has been modified to include the entire barrier feature, which has expanded to the east.

MD-12: DEAL ISLAND UNIT. The landward boundary of the unit has been modified to reflect natural changes that have occurred in the configuration of the marsh and wetland/fastland interface.

MD-14: FRANKS ISLAND UNIT. The landward boundary of the unit has been modified to reflect natural changes that have occurred in the configuration of the marsh and wetland/fastland interface. The boundary has also been modified to account for channel migration and erosion along Rock Creek.

MD-15: LONG POINT UNIT. The landward boundary of the unit has been modified to reflect natural changes that have occurred in the configuration of the marsh and wetland/fastland interface. The southern boundary has been modified to include the entirety of an accreting barrier spit located south of Long Point and its associated aquatic habitat within the unit.

MD-16: STUMP POINT UNIT. The landward boundary of the unit has been modified to reflect natural changes that have occurred in the configuration of the marsh and wetland/fastland interface. The boundary has also been modified to account for channel migration and erosion along Stacey Gut.

MD-20: JENNY ISLAND UNIT. The landward boundary of the unit has been modified to reflect natural changes that have occurred in the configuration of the marsh and wetland/fastland interface.

MD-18P: MARSH ISLAND UNIT. The northern landward boundary of the unit has been modified slightly to account for erosion and channel migration along Little Pungers Creek.

MD-37P: FLAG PONDS UNIT. The landward boundary of the unit has been modified to reflect natural changes that have occurred in the configuration of the marsh and wetland/fastland interface. The southern boundary has been modified to include the entirety of an accreting barrier spit and its associated aquatic habitat within the unit.

MD-38: COVE POINT MARSH UNIT. The landward boundary of the unit has been modified to reflect natural changes that have occurred in the configuration of the marsh and wetland/fastland interface.

MD-24: COVEY CREEK UNIT. The landward boundary of the unit has been modified to reflect natural changes that have occurred in the configuration of the marsh and wetland/fastland interface. The northern boundary has been moved further north to account for shoreline erosion within the unit.

MD-26: BOONE CREEK UNIT. The landward boundary of the unit has been modified to reflect natural changes that have occurred in the configuration of the wetland/fastland interface and to account for shoreline erosion.

MD-27: BENONI POINT UNIT. The landward boundary of the unit has been modified to reflect natural changes that have occurred in the configuration of the wetland/fastland interface and to account for shoreline erosion.

MD-30: KENT POINT UNIT. The landward boundary of the unit has been modified to reflect natural changes that have occurred in the configuration of the marsh and wetland/fastland interface.

MD-32: STEVENSVILLE UNIT. The landward and northern boundaries of the unit have been modified to reflect natural changes that have occurred in the configuration of the wetland/fastland interface.

MD-33: WESLEY CHURCH UNIT. The landward boundary of the unit has been modified to reflect natural changes that have occurred in the configuration of the wetland/fastland interface.

MD-35: WILSON POND UNIT. The landward boundary of the unit has been modified to reflect natural changes that have occurred in the configuration of the marsh and wetland/fastland interface.

MD-41: GREEN HOLLY POND UNIT. The landward boundary of the unit has been modified to reflect natural changes that have occurred in the configuration of the wetland/fastland interface.

MD-44: ST. CLARENCE CREEK UNIT. The landward boundary of the unit has been modified to reflect natural changes that have occurred in the configuration of the wetland/fastland interface and shoreline erosion.

MD-45: DEEP POINT UNIT. The landward boundary of the unit has been modified to reflect natural changes that have occurred in the configuration of the wetland/fastland interface. The boundary has also been modified slightly to include the entirety of an accreting sand spit within the unit.

MD-46: POINT LOOK-IN UNIT. The landward boundary of the unit has been modified to reflect natural changes that have occurred in the configuration of the wetland/fastland interface.

MD-47: TANNER CREEK UNIT. The landward boundary of the unit has been modified to reflect natural changes that have occurred in the configuration of the marsh and wetland/fastland interface.

MD-48P: POINT LOOKOUT UNIT. The landward boundary of the unit has been modified to reflect natural changes that have occurred in the configuration of the marsh and wetland/fastland interface.

MD-49: BISCO CREEK UNIT. The landward boundary of the unit has been modified to reflect natural changes that have occurred in the configuration of the marsh and wetland/fastland interface.

MD-53: BLAKE CREEK UNIT. The landward boundary of the unit has been modified to reflect natural changes that have occurred in the configuration of the wetland/fastland interface.

MD-54: BELVEDERE CREEK UNIT. The landward boundary of the unit has been modified to reflect natural changes that have occurred in the configuration of the wetland/fastland interface.

MD-56: ST. CATHERINE ISLAND UNIT. The boundary of the unit has been modified to include an accreting sand spit on the eastern side of St. Catherine Island.

New Jersey

The Service's review found 19 of the 21 CBRS units in New Jersey to have changed due to natural forces.

NJ-02: SEIDLER BEACH UNIT. The landward boundary of the unit has been modified to reflect natural changes that have occurred in the configuration of the wetland/fastland interface.

NJ-03P: CLIFFWOD BEACH UNIT. The landward boundary of the unit has been modified to reflect natural changes in the wetland/fastland interface and along the banks of Whale Creek and Treasure Lake. The western boundary of the unit has been modified to account for the accretion of the sand spit at the western end of Cliffwood Beach.

NJ-04: CONASKONK POINT UNIT. The landward boundary of the unit has been modified to reflect natural changes to the wetland/fastland interface and the southernmost edge of Chingarora Creek.

NJ-04A: NAVESINK/SHREWSBURY COMPLEX UNIT. The boundary of the northern segment of the unit has been modified to include more of the sand sharing system in the Navesink River to the north, northwest, and northeast of Barley Point. The boundary of the northern segment of the unit has been modified to the south and southeast of Barley Point to reflect the current location of the channels that the boundary follows. The eastern boundary of the southern segment of the unit has been modified slightly to fully include all of the islands behind the barrier within the unit.

NJ-04B: METEDECONK NECK UNIT. The boundary of the northern segment of the unit has been modified to reflect natural changes that have occurred along the shoreline of Herring Island and in the configuration of the wetland/fastland interface. The boundary of the southern segment of the unit has been modified to reflect natural changes in the shoreline along Metedeconk Neck and along minor channels.

NJ-04BP: METEDECONK NECK UNIT. The boundary of the northern segment of the unit has been modified to reflect natural changes that have occurred along the shoreline of Herring Island. The boundary of the southern segment of the unit has been modified to reflect natural changes along the shoreline along Metedeconk Neck.

NJ-05P: ISLAND BEACH UNIT. The boundary of the southern portion of the unit has been modified to include the entirety of an unnamed island in Barnegat Bay which is already partially within the unit.

NJ-06: CEDAR BONNET ISLAND UNIT. A portion of the northern boundary of the unit has been modified to reflect natural changes that have occurred in the configuration of the wetland/fastland interface. The boundary coincident with a segment of Unit NJ-06P has been modified to reflect natural changes along the shoreline of an unnamed channel. The boundary has been modified to follow the center of an unnamed channel running between Units NJ-06 and NJ-06P.

NJ-06P: CEDAR BONNET ISLAND UNIT. The boundaries of three of the four discrete segments of the unit in Little Egg Harbor have been modified to reflect natural changes that occurred along the shorelines of the islands. The boundary coincident with a segment of Unit NJ-06 has been modified to reflect natural changes along the shoreline of an unnamed channel.

NJ-07P: BRIGANTINE UNIT. The boundary of the unit has been modified to account for channel migration and erosion along several channels. The boundary, primarily in the northern part of the unit, has been modified to reflect natural changes that have occurred in the configuration of the wetland/fastland interface and the shoreline.

NJ-08P: CORSON INLET UNIT. The boundary of the unit has been modified to account for channel migration and erosion along a tributary to Corson Sound, Ben Hands Thorofare, Crook Horn Creek, and Weakfish Creek.

NJ-09: STONE HARBOR UNIT. The boundary of the unit has been modified to reflect natural changes that have occurred in the configuration of the wetland/fastland interface on the northwestern side of the unit and along Slab Creek and Nichols Channel. The coincident boundary between Units NJ-09 and NJ-09P has been modified to account for channel migration along Gravelly Run, Great Flat Thorofare, Hammock Creek, and Jenkins Channel. The coincident boundary between Units NJ-09 and NJ-09P has been modified to account for natural changes along the southeastern shoreline of Nummy Island.

NJ-09P: STONE HARBOR UNIT. The boundary of the unit has been modified to account for channel migration along Dung Thorofare. The coincident boundary between Units NJ-09 and NJ-09P has been modified to account for channel migration along Gravelly Run, Great Flat Thorofare, Hammock Creek, and Jenkins Channel. The coincident boundary between Units NJ-09 and NJ-09P has been modified to account for natural changes along the southeastern shoreline of Nummy Island.

NJ-11P: HIGBEE BEACH UNIT. A portion of the southern boundary of the unit has been modified to reflect natural changes that have occurred in the configuration of the wetland/fastland interface.

NJ-12: DEL HAVEN UNIT. The landward boundary of the unit has been modified to reflect natural changes that have occurred in the configuration of the wetland/fastland interface. The coincident boundary between Units NJ-12 and NJ-12P has been modified to account for shoreline erosion along Delaware Bay.

NJ-12P: DEL HAVEN UNIT. The coincident boundary between Units NJ-12 and NJ-12P has been modified to account for shoreline erosion along Delaware Bay.

NJ-13: KIMBLES BEACH UNIT. The boundary of the unit has been modified to reflect natural changes that have occurred in the configuration of the wetland/fastland interface. A small portion of the boundary that follows the shoreline of Delaware Bay at Kimbles Beach has been modified to account for erosion.

NJ-14: MOORES BEACH UNIT. The boundary of the unit has been modified to reflect natural changes that have occurred in the configuration of the wetland/fastland interface. The coincident boundary between Units NJ-14 and NJ-14P has been modified to account for channel migration along East Creek, West Creek, and several unnamed channels.

NJ-14P: MOORES BEACH UNIT. The boundary of the unit has been modified to reflect natural changes that have occurred in the configuration of the wetland/fastland interface. The boundary has been modified to account for channel migration along Bidwell Creek, Dennis Creek, Riggins Ditch, Sluice Creek, and several unnamed channels. The coincident boundary between Units NJ-14 and NJ-14P has been modified to account for channel migration along East Creek, West Creek, and several unnamed channels.

New York

The Service's review found that Unit NY-60P (the only CBRS unit in New York that was part of this review) had changed due to natural forces. The other CBRS units in New York were not assessed as part of this review.

NY-60P: JAMAICA BAY. The boundary of the unit has been modified to reflect changes in the configuration of the wetland/fastland interface and the shoreline in Jamaica Bay.

North Carolina

The Service's review found 12 of the CBRS units in North Carolina to have changed due to natural forces. This review did not include the North Carolina portion of Unit M01 in Brunswick County, because that unit crosses the State boundary into South Carolina and was included in its entirety with the draft maps for all CBRS units in South Carolina that were remapped and referenced in a notice the Service published in the Federal Register on August 29, 2013 (78 FR 53467). Additionally, this review originally included North Carolina Units L07, L08, and L09; however, comprehensively revised maps for those three units were made effective on December 18, 2014, via Pub. L. 113-253; therefore, the draft maps for those units prepared through the digital conversion effort have been superseded and are not included in this notice. The comprehensively revised maps, dated December 18, 2014, make modifications to the CBRS to remove areas that were inappropriately included within the CBRS in the past; add undeveloped areas that qualify for inclusion; and also address the natural changes that were proposed in the notice published in the Federal Register (79 FR 33207) on June 10, 2014.

L01: CURRITUCK BANKS UNIT. The landward boundary of the unit on Knotts Island Bay has been modified to reflect natural changes that have occurred in the configuration of the wetland/fastland interface and the shoreline. The coincident boundary with the northern segment of Unit L01P has been modified to reflect natural changes that have occurred in the configuration of the wetland/fastland interface on Currituck Sound, and modified to follow the center of the channel in Old Currituck Inlet.

L01P: CURRITUCK BANKS UNIT. The landward boundary of the northern segment of L01P has been modified to reflect natural changes that have occurred in the configuration of the wetland/fastland interface on Currituck Sound, and modified to follow the center of the channel in Old Currituck Inlet.

NC-01: PINE ISLAND BAY UNIT. The landward boundary of the unit along the shoreline of the excluded area has been modified slightly to better follow the shoreline as depicted on the new CBRS base map.

NC-02: NAGS HEAD WOODS UNIT. The landward boundary along the portion of the northern segment of the unit that follows the edge of the marsh has been modified to better follow the edge of the marsh as depicted on the new CBRS base map.

NC-03P: CAPE HATTERAS UNIT. Portions of the landward boundary of the unit have been modified to account for shoreline erosion. The boundary of the unit has been modified to account for accretion at the southern end of Ocracoke Island. The western boundary of the unit, where it is coincident with Unit L03AP, has intentionally not been modified. This area continues to change, and there are CBRS units on both sides of the boundary, so a modification in this area would have no effect.

L03AP: SHACKLEFORD BANKS UNIT. The western boundary of the unit along Beaufort Inlet has been expanded westward into the inlet. The original boundary of the unit has been generally located along the shoreline of Shackleford Banks within the inlet, but the island and the inlet continue to change. The boundary has been modified and generalized to account for existing conditions and the potential for future change. The eastern boundary of the unit, which is coincident with Unit NC-03P, has intentionally not been modified. This area continues to change, and there are OPAs on both sides of the boundary, so a modification in this area would have no effect.

NC-04P: FORT MACON UNIT. The northern boundary of the excluded area of the unit surrounding United States Coast Guard Station Fort Macon has been modified to account for erosion along the shoreline.

NC-05P: ROOSEVELT NATURAL AREA UNIT. The northern boundary of the unit along Bogue Sound has been modified to account for erosion.

NC-06P: HAMMOCKS BEACH UNIT. The northern boundary of the unit has been modified to reflect natural changes that have occurred to Bear Island and Bogue Inlet. A portion of the southern boundary of the unit has been modified to reflect the current location of Sanders Creek. The location of the shoals in Bear Inlet has been dynamic, and so has the location of the Bear Inlet channel. Additionally, the southern boundary of the unit is coincident with Unit L05. The boundary in this area has been simply generalized, and the current geomorphic features of the inlet were not used to determine the placement of the boundary.

L05: ONSLOW BEACH COMPLEX UNIT. The southern boundary of the southern segment of the unit has been modified to follow what is now the center of New River Inlet up the New River channel. The boundary of the unit has also been modified due to channel migration along Wards Channel through to its junction with New River. In the northern segment of the unit, the northern boundary has been modified to follow the center of Shacklefoot Channel and Sanders Creek through to its junction with Bear Inlet. The location of the shoals in Bear Inlet has been dynamic, and so has the location of the Bear Inlet channel. Additionally, the northern boundary of the unit is coincident with Unit NC-06P. The boundary in this area has been simply generalized, and the current geomorphic features of the inlet were not used to determine the placement of the boundary.

L06: TOPSAIL UNIT. The landward boundary of the unit has been modified to reflect natural changes that have occurred in the configuration of the marsh, wetland/fastland interface, and the location of New River Inlet. Due to the dynamic nature of the New River Inlet and the adjacent barrier island to the northeast of the unit, the boundary through the inlet has been modified and generalized to account for existing conditions and the potential for future change.

NC-07P: CAPE FEAR UNIT. The landward boundary of the unit has been modified to reflect natural changes that have occurred in the configuration of the marsh, wetland/fastland interface, and the shoreline along Bald Head Creek, Cape Creek, and the Cape Fear River and its associated aquatic habitat.

Virginia

The Service's review found 55 of the 64 CBRS units in Virginia to have changed due to natural forces. The final revised map for Unit VA-09 corrects an administrative error that was made by the Service in 1997.

VA-01P: ASSATEAGUE ISLAND UNIT. The southern boundary of the unit has been modified to account for accretion at the southern end of Assateague Island.

VA-02P: ASSAWOMAN ISLAND UNIT. The landward boundary of the unit has been modified to reflect natural changes that have occurred in the configuration of the wetland/fastland interface. The boundary on the southern side of the unit has been modified to reflect natural changes along Shipping Creek and Wire Passage. The northern boundary of the unit has been modified to account for natural changes along Assawoman Creek. The northern boundary formerly ran through Assawoman Inlet, which has since closed, and now runs from Assawoman Creek across Assawoman Island to the Atlantic Ocean.

VA-03P: METOMPKIN ISLAND UNIT. The northern boundary of the unit has been modified to account for channel migration along Wire Passage. The landward boundary of the unit has been modified to reflect the westward migration of Metompkin Island. The coincident boundary between Units VA-03P and K03 has been modified to follow the current location of Metompkin Inlet and to account for accretion at the northern end of Cedar Island. The name of this unit has been changed from “Metomkin Island” to “Metompkin Island” to correctly identify the underlying barrier feature.

K03: CEDAR ISLAND UNIT. The coincident boundary between Units VA-03P and K03 has been modified to follow the current location of Metompkin Inlet and to account for accretion at the northern end of Cedar Island. The landward boundary of the unit has been modified to reflect natural changes that have occurred in the configuration of the wetland/fastland interface. The coincident boundary between Units K03 and VA-04P has been modified to follow the current location of Wachapreague Inlet and to account for accretion at the southern end of Cedar Island.

VA-04P: PARRAMORE/HOG/COBB ISLANDS UNIT. The coincident boundary between Units VA-04P and K04 has been modified to reflect the migration of Long Channel, Little Cobb Island, and the southern end of Cobb Island.

K04: LITTLE COBB ISLAND UNIT. The coincident boundary between Units VA-04P and K04 has been modified to reflect the migration of Long Channel, Little Cobb Island, and the southern end of Cobb Island. The coincident boundary between Units K04 and VA-05P has been moved southward to reflect natural changes in Sand Shoal Inlet and the barrier islands to the north and south of the inlet.

VA-05P: WRECK ISLAND UNIT. The coincident boundary between Units K04 and VA-05P has been moved southward to reflect natural changes in Sand Shoal Inlet and the barrier islands to the north and south of the inlet. The landward boundary of the unit has been modified to reflect natural changes that have occurred in the configuration of the wetland/fastland interface. The coincident boundary between Units VA-05P and VA-06P has been modified to reflect channel migration along Main Ship Shoal Channel.

VA-06P: SMITH ISLAND UNIT. The coincident boundary between Units VA-05P and VA-06P has been modified to reflect channel migration along Main Ship Shoal Channel.

K05, K05P: FISHERMAN'S ISLAND UNIT. The coincident boundary between Units K05 and K05P has been modified to reflect channel migration along two minor unnamed channels and to account for natural changes in the wetland/fastland interface.

VA-09: ELLIOTS CREEK UNIT. The landward boundary of the unit has been modified to reflect natural changes that have occurred in the configuration of the wetland/fastland interface. Additionally, the southern boundary of the unit has been modified to correct an administrative error that was made by the Service in 1997 when this unit was last modified to account for natural changes under 16 U.S.C. 3503(c). In 1996, Northampton County, Virginia, submitted a letter to the Service that objected to the Service's proposed addition of part of a subdivision known as Sugar Hill, located near Elliott's Creek. The County's letter indicated that the subdivision was already being developed and did not qualify for addition to the CBRS under 16 U.S.C. 3503(c), as there had been no natural changes that warranted the proposed addition. The Service's background records indicate that the Service re-examined the area in 1996 and agreed that the area in question should not be included within the CBRS. However, when the Service adopted the final set of revised maps via a notice in the Federal Register on February 24, 1997 (62 FR 8258), the map that proposed to add the area in question to the CBRS was adopted in error. This correction is supported by an assessment of the historical maps and aerial imagery for this area and the Service's background records for Unit VA-09.

VA-10: OLD PLANTATION CREEK UNIT. The landward boundary of the unit has been modified to reflect natural changes that have occurred in the configuration of the wetland/fastland interface.

VA-11: WESTCOAT POINT UNIT. The boundary of the unit in Cherrystone Inlet has been modified to account for the migration of sand outside the unit at Westcoat Point.

VA-12: GREAT NECK UNIT. The boundary of the unit has been modified to reflect natural changes that have occurred in the configuration of the wetland/fastland interface.

VA-13: WESTERHOUSE CREEK UNIT. The boundary of the unit has been modified to reflect natural changes that have occurred in the configuration of the wetland/fastland interface.

VA-14: SHOOTING POINT UNIT. The boundary of the unit has been modified to reflect natural changes that have occurred in the configuration of the wetland/fastland interface.

VA-16: SCARBOROUGH NECK UNIT. The boundary of the unit has been modified to reflect natural changes that have occurred in the configuration of the wetland/fastland interface.

VA-17: CRADDOCK NECK UNIT. The boundary of the unit has been modified to reflect natural changes that have occurred in the configuration of the wetland/fastland interface.

VA-18: HACKS NECK UNIT. The boundary of the unit has been modified to reflect natural changes that have occurred in the configuration of the wetland/fastland interface.

VA-21: BEACH ISLAND UNIT. The northeastern boundary of the unit has been modified to reflect the eastward migration of Beach Island.

VA-23: SIMPSON BEND UNIT. The boundary of the unit has been modified to reflect channel migration along Cedar Cove Gut.

VA-24: DRUM BAY UNIT. The boundary of the unit has been modified to reflect channel migration along Starling Creek and Fishing Creek.

VA-26: CHEESEMAN ISLAND UNIT. The boundary of the unit has been modified to reflect the eastward migration of Cheeseman Island and to include wetlands and aquatic habitat that are now associated with the barrier. The southern boundary of the unit has been modified to account for the migration of sand both eastward and southward.

VA-28: TANGIER ISLAND UNIT. The northwestern boundary of the unit has been modified to reflect channel migration along an unnamed channel and to account for the northwesterly expansion of the barrier feature at the southern end of Tangier Island.

VA-29: ELBOW POINT UNIT. The landward boundary of the unit has been modified to reflect natural changes that have occurred in the configuration of the wetland/fastland interface.

VA-30: WHITE POINT UNIT. The landward boundary of the unit has been modified to reflect natural changes that have occurred in the configuration of the wetland/fastland interface.

VA-31: CABIN POINT UNIT. The landward boundary of the unit has been modified to reflect natural changes that have occurred in the configuration of the wetland/fastland interface. The southern end of the unit has been modified to account for the southeasterly expansion of the barrier feature.

VA-32: GLEBE POINT UNIT. The landward boundary of the unit has been modified to reflect natural changes that have occurred in the configuration of the wetland/fastland interface.

VA-33: SANDY POINT UNIT. The landward boundary of the unit has been modified to reflect natural changes that have occurred in the configuration of the wetland/fastland interface.

VA-34: JUDITH SOUND UNIT. The landward boundary of the unit has been modified to reflect natural changes that have occurred in the configuration of the wetland/fastland interface.

VA-35: COD CREEK UNIT. The landward boundary of the unit has been modified to reflect natural changes that have occurred in the configuration of the wetland/fastland interface.

VA-36: PRESLEY CREEK UNIT. The landward boundary of the unit has been modified to reflect natural changes that have occurred in the configuration of the wetland/fastland interface.

VA-37: CORDREYS BEACH UNIT. The landward boundary of the unit has been modified to reflect natural changes that have occurred in the configuration of the wetland/fastland interface. The western boundary of the unit has been modified to account for the westward expansion of the barrier feature.

VA-38: MARSHALLS BEACH UNIT. The landward boundary of the unit has been modified to reflect natural changes that have occurred in the configuration of the wetland/fastland interface.

VA-39P: GINNY BEACH UNIT. The landward boundary of the unit has been modified to reflect natural changes that have occurred in the configuration of the wetland/fastland interface.

VA-40: GASKIN POND UNIT. The landward boundary of the unit has been modified to reflect natural changes that have occurred in the configuration of the wetland/fastland interface.

VA-41: OWENS POND UNIT. The landward boundary of the unit has been modified to reflect natural changes that have occurred in the configuration of the wetland/fastland interface.

VA-42: CHESAPEAKE BEACH UNIT. The landward boundary of the unit has been modified to reflect natural changes that have occurred in the configuration of the wetland/fastland interface.

VA-43: FLEET POINT UNIT. The landward boundary of the unit has been modified to reflect natural changes that have occurred in the configuration of the wetland/fastland interface.

VA-44: BUSSEL POINT UNIT. The landward boundary of the unit has been modified to reflect natural changes that have occurred in the configuration of the wetland/fastland interface.

VA-45: HARVEYS CREEK UNIT. The landward boundary of the unit has been modified to reflect natural changes that have occurred in the configuration of the wetland/fastland interface.

VA-46: INGRAM COVE UNIT. The landward boundary of the unit has been modified to reflect natural changes that have occurred in the configuration of the wetland/fastland interface.

VA-47: BLUFF POINT NECK UNIT. The landward boundary of the unit has been modified to reflect natural changes that have occurred in the configuration of the wetland/fastland interface. The southern boundary of the unit has been modified to account for erosion of the barrier feature.

VA-48: BARNES CREEK UNIT. The landward boundary of the unit has been modified to reflect natural changes that have occurred in the configuration of the wetland/fastland interface.

VA-49: NORTH POINT UNIT. The landward boundary of the unit has been modified to reflect natural changes that have occurred in the configuration of the wetland/fastland interface.

VA-50: WINDMILL POINT UNIT. The landward boundary of the unit has been modified to reflect natural changes that have occurred in the configuration of the wetland/fastland interface.

VA-51: DEEP HOLE POINT UNIT. The landward boundary of the unit has been modified to reflect shoreline erosion. The eastern boundary of the unit has been modified to account for the migration of sand outside the unit in Windmill Point Creek. The western boundary of the unit has been modified to reflect the westward migration of the barrier at Deep Hole Point and include wetlands and aquatic habitat that are now associated with the barrier.

VA-52: STURGEON CREEK UNIT. The landward boundary of the unit has been modified to reflect natural changes that have occurred in the configuration of the wetland/fastland interface.

VA-53: JACKSON CREEK UNIT. The landward boundary of the unit has been modified to reflect natural changes that have occurred in the configuration of the wetland/fastland interface.

VA-55: RIGBY ISLAND/BETHEL BEACH UNIT. The landward boundary of the unit has been modified to reflect natural changes that have occurred in the configuration of the wetland/fastland interface. The name of this unit has been changed from “Rigby Island/Bethal Beach” to “Rigby Island/Bethel Beach” to correctly identify the underlying barrier feature.

VA-56: NEW POINT COMFORT UNIT. The northern boundary of the unit has been modified to reflect natural changes that have occurred in the configuration of the wetland/fastland interface. The western boundary of the unit has been modified to account for migrating sand.

VA-57: WARE NECK UNIT. The landward boundary of the unit has been modified to reflect natural changes that have occurred in the configuration of the wetland/fastland interface.

VA-58: SEVERN RIVER UNIT. The landward boundary of the unit has been modified to reflect natural changes that have occurred in the configuration of the wetland/fastland interface.

VA-59P: PLUM TREE ISLAND UNIT. The landward boundary of the unit has been modified to reflect natural changes that have occurred in the configuration of the wetland/fastland interface.

VA-60P: LONG CREEK UNIT. The landward boundary of the unit has been modified to reflect natural changes that have occurred in the configuration of the wetland/fastland interface. The boundary has been modified to reflect channel migration along Grunland Creek.

Availability of Final Maps and Related Information

The final revised maps dated August 1, 2014, and digital boundary data can be accessed and downloaded from the Service's Web site, at http://www.fws.gov/CBRA. The digital boundary data are available for reference purposes only. The digital boundaries are best viewed using the base imagery to which the boundaries were drawn; this information is printed in the title block of the maps. The Service is not responsible for any misuse or misinterpretation of the digital boundary data.

Interested parties may also contact the Service individual identified in the FOR FURTHER INFORMATION CONTACT section of this notice to make arrangements to view the final maps at the Service's Headquarters office. Interested parties who are unable to access the maps via the Service's Web site or at the Service's Headquarters office may contact the Service individual identified in the FOR FURTHER INFORMATION CONTACT section, and reasonable accommodations will be made to ensure the individual's ability to view the maps.

Dated: April 20, 2015.
Gary Frazer,
Assistant Director for Ecological Services.

[FR Doc. 2015-10279 Filed 5-1-15; 8:45 am]

BILLING CODE 4310-55-P